DEPARTMENT OF ENERGY

Federal Energy Regulatory Commission

[Docket No. EG10-39-000]

Hatchet Ridge Wind, LLC; Notice of Effectiveness of Exempt Wholesale Generator Status

August 23, 2010.

Take notice that during the month of July 2010, the status of the above-captioned entity as an Exempt Wholesale Generator became effective by operation of the Commission's regulations, 18 CFR 366.7(a).

Nathaniel J. Davis, Sr.,
Deputy Secretary.

[FR Doc. 2010-21649 Filed 8-30-10; 8:45 am]

BILLING CODE 6717-01-P